DEPARTMENT OF HEALTH AND HUMAN SERVICES

Centers for Disease Control and Prevention

[30Day-17-16AOW]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC I-Catalyst Program—New—Office of the Associate Director for Science, Centers for Disease Control and Prevention (CDC).

Background and Brief Description

The CDC Office of Technology and Innovation (OTI) within Office of the Associate Director for Science (OADS) is seeking approval for a new CDC generic clearance. OTI fosters innovative science and promotes the testing and implementation of innovative ideas that improve CDC's ability to have public health impact. To arm CDC staff with an expanded skill-set and tools to evaluate and translate their insights and ideas into solutions, CDC developed an experiential innovation curriculum called I-Catalyst based on the NSF I-Corp program. The program was created with the belief that innovation should be customer driven, be based on user research, and is something people at all levels of an organization can engage in.

The purpose of the I-Catalyst program is to teach CDC teams a process of discovering the issues and problems faced by their customers before considerable time and money is spent on a solution that may not be used. Each participating I-Catalyst project team will present with a unique customer problem for which they have a proposed solution. Participating project teams will go through a hypothesis-testing, scientific method of discovery to gather important insights about their customers and their needs.

Each individual collection will be a different problem for which a CDC team is designing a solution. The types of customers or stakeholders teams' interview will be detailed in each collection. For example, teams may interview government employees if the solution is intended to improve how government employees do their work. On the other hand, teams may interview individuals who work in industry and businesses if the problem is one experienced by external customers. This data collection covers qualitative information to be obtained through on-site, unstructured interviews with individuals who represent the customers or stakeholders CDC teams are attempting to serve or benefit.

It is expected that the program will help CDC teams generate information about their customers to help them make the case for key innovation investments to advance important public health solutions and innovations. The ultimate goal of the I-Catalyst program is to give CDC staff skills to successfully transfer knowledge into value-based solutions that benefit society and broaden the agency's impact. Participation in the I-Catalyst interviews is completely voluntary. A three-year approval is requested. There is no cost to respondents other than their time.

CDC anticipates 30 projects over the next three years. Each project team will interview their customers/stakeholders for an average of 30 minutes and maximum of 2 responses per respondent. Each team will interview approximately 50 respondents. Approximately 1500 respondents will be interviewed. Of these respondents, approximately 40% of individuals will be internal CDC/ATSDR staff and 60% will be external partners, stakeholders, or customers. Annualized burden will be 500 hours.

Estimated Annualized Burden Hours
Type of respondents | Form name | Number of respondents | Number of responses per respondent | Average burden per response (in hrs) | Total burden (in hrs)
External + Internal stakeholder/customers | Sample Interview Guide | 500 | 2 | 30/60 | 500

Leroy A. Richardson,
Chief, Information Collection Review Office, Office of Scientific Integrity, Office of the Associate Director for Science, Office of the Director, Centers for Disease Control and Prevention.

[FR Doc. 2016-27421 Filed 11-14-16; 8:45 am]

BILLING CODE 4163-18-P